SMALL BUSINESS ADMINISTRATION

[Disaster Declaration #15214 and #15215; Texas Disaster #TX-00484]

Administrative Declaration of a Disaster for the State of Texas

AGENCY: U.S. Small Business Administration.

ACTION: Notice.

SUMMARY: This is a notice of an Administrative declaration of a disaster for the State of Texas.

DATES: Issued on 07/26/2017.

Physical Loan Application Deadline Date: 09/25/2017.

Economic Injury (Eidl) Loan Application Deadline Date: 04/26/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: Notice is hereby given that as a result of the Administrator's disaster declaration, applications for disaster loans may be filed at the address listed above or other locally announced locations.

Dated 07/26/2017.

Incident: Severe Storms, Straight-line Winds, Hail and Flooding.

Incident Period: 06/23/2017 through 06/26/2017.

The following areas have been determined to be adversely affected by the disaster:

Primary Counties: Tom Green.

Contiguous Counties:

Texas: Coke, Concho, Irion, Menard, Reagan, Runnels, Schleicher, Sterling.

The Interest Rates are:

| Percent
For Physical Damage:
Homeowners with Credit Available Elsewhere | 3.875
Homeowners without Credit Available Elsewhere | 1.938
Businesses with Credit Available Elsewhere | 6.430
Businesses without Credit Available Elsewhere | 3.215
Non-Profit Organizations with Credit Available Elsewhere | 2.500
Non-Profit Organizations without Credit Available Elsewhere | 2.500
For Economic Injury:
Businesses & Small Agricultural Cooperatives without Credit Available Elsewhere | 3.215
Non-Profit Organizations without Credit Available Elsewhere | 2.500

The number assigned to this disaster for physical damage is 15214 B and for economic injury is 15215 0.

The State which received an EIDL Declaration # is Texas.

(Catalog of Federal Domestic Assistance Number 59008)

Dated: July 26, 2017.
Linda E. McMahon,
Administrator.

[FR Doc. 2017-16537 Filed 8-4-17; 8:45 am]

BILLING CODE 8025-01-P